DEPARTMENT OF ENERGY

Federal Energy Regulatory Commission

Combined Notice of Filings # 1

July 12, 2007.

Take notice that the Commission received the following exempt wholesale generator filings:

Docket Numbers: EG07-53-000.

Applicants: Bethlehem Renewable Energy, LLC.

Description: Bethlehem Renewable Energy, LLC submits a supplement to its 5/16/07 filing.

Filed Date: 06/28/2007.

Accession Number: 20070703-0145.

Comment Date: 5 p.m. Eastern Time on Thursday, July 19, 2007.

Docket Numbers: EG07-64-000.

Applicants: Benton County Wind Farm.

Description: Benton County Wind Farm submits an Exempt Wholesale Generator Notice of Self-Certification.

Filed Date: 07/03/2007.

Accession Number: 20070703-5009.

Comment Date: 5 p.m. Eastern Time on Tuesday, July 24, 2007.

Docket Numbers: EG07-66-000.

Applicants: Edison Mission Group.

Description: Edison Mission Group submits a Notice of Self-Certification of Exempt Wholesale Generator Status.

Filed Date: 07/09/2007.

Accession Number: 20070709-5046.

Comment Date: 5 p.m. Eastern Time on Monday, July 30, 2007.

Take notice that the Commission received the following electric rate filings:

Docket Numbers: ER99-4122-023; ER99-4124-019; ER07-428-001.

Applicants: Arizona Public Service Company; APS Energy Services Company; Pinnacle West Marketing & Trading.

Description: Arizona Public Service Co et al. submits a notice of change in status of generation capacity.

Filed Date: 07/02/2007.

Accession Number: 20070711-0036.

Comment Date: 5 p.m. Eastern Time on Monday, July 23, 2007.

Docket Numbers: ER03-1368-004; ER03-1372-005; ER03-1371-004.

Applicants: Cleco Power LLC; Arcadia Power Partners, LLC; Cleco Evangeline LLC.

Description: Cleco Power LLC et al. submits 1st Revised Sheet 4, Superseding Original Sheet 4 et al. to FERC Electric Tariff, 1st Revised Volume 2.

Filed Date: 07/03/2007.

Accession Number: 20070711-0035.

Comment Date: 5 p.m. Eastern Time on Tuesday, July 24, 2007.

Docket Numbers: ER03-1413-005.

Applicants: Sempra Energy Trading Corp.

Description: Sempra Energy Trading Corp informs FERC that effective 6/1/07 its energy management agreement with Lake Road Generating Company, LP was terminated.

Filed Date: 06/14/2007.

Accession Number: 20070702-0257.

Comment Date: 5 p.m. Eastern Time on Monday, July 23, 2007.

Docket Numbers: ER05-69-003.

Applicants: NSTAR Electric Company.

Description: NSTAR Electric Company's request for a two week extension of time to allow them to make the annual informational reports filing on 7/14/07.

Filed Date: 06/28/2007.

Accession Number: 20070702-0060.

Comment Date: 5 p.m. Eastern Time on Thursday, July 19, 2007.

Docket Numbers: ER07-653-002.

Applicants: The United Illuminating Company.

Description: The United Illuminating Company submits its clean and black-lined versions of revisions to Schedule UI-21 of ISO New England Inc's Open Access Transmission Tariff.

Filed Date: 07/06/2007.

Accession Number: 20070709-0137.

Comment Date: 5 p.m. Eastern Time on Friday, July 27, 2007.

Docket Numbers: ER07-720-001.

Applicants: New York Independent System Operator, Inc.

Description: New York Independent System Operator submits its compliance filing required by FERC's June Order.

Filed Date: 07/03/2007.

Accession Number: 20070706-0053.

Comment Date: 5 p.m. Eastern Time on Tuesday, July 24, 2007.

Docket Numbers: ER07-883-002.

Applicants: Southwest Power Pool, Inc.

Description: Southwest Power Pool, Inc submits an executed Service Agreement for Network Integration Transmission Service with Kansas City Power & Light Company.

Filed Date: 06/29/2007.

Accession Number: 20070703-0113.

Comment Date: 5 p.m. Eastern Time on Friday, July 20, 2007.

Docket Numbers: ER07-924-001.

Applicants: Kansas City Power & Light Company.

Description: Kansas City Power & Light submits substitute sheets to replace the corresponding sheets that were originally filed on 5/22/07.

Filed Date: 07/05/2007.

Accession Number: 20070709-0118.

Comment Date: 5 p.m. Eastern Time on Thursday, July 26, 2007.

Docket Numbers: ER07-984-001.

Applicants: Entergy Gulf States, Inc.

Description: Entergy Gulf States Inc submits an executed version of an amended and conformed Power Sales Agreement for the Toledo Bend Project with Sabine River Authority.

Filed Date: 07/06/2007.

Accession Number: 20070709-0142.

Comment Date: 5 p.m. Eastern Time on Friday, July 27, 2007.

Docket Numbers: ER07-1065-001.

Applicants: Public Service Company of New Mexico.

Description: City of Farmington, New Mexico submits a certificate of Concurrence re the filing by Public Service Co of New Mexico on 6/21/07.

Filed Date: 07/09/2007.

Accession Number: 20070711-0034.

Comment Date: 5 p.m. Eastern Time on Monday, July 30, 2007.

Docket Numbers: ER07-1090-001.

Applicants: PJM Interconnection L.L.C.

Description: PJM Interconnection, L.L.C. submits a corrected version of its Wholesale Market Participation Agreement.

Filed Date: 07/10/2007.

Accession Number: 20070711-0033.

Comment Date: 5 p.m. Eastern Time on Tuesday, July 31, 2007.

Docket Numbers: ER07-1100-000.

Applicants: Entergy Services, Inc.

Description: Entergy Services Inc submits its Second Revised Network Integration Transmission Service Agreement and First Revised Network Operating Agreement.

Filed Date: 06/29/2007.

Accession Number: 20070702-0061.

Comment Date: 5 p.m. Eastern Time on Friday, July 20, 2007.

Docket Numbers: ER07-1100-001.

Applicants: Entergy Services, Inc.

Description: Entergy Services, Inc. submits an erratum to the Second Revised Network Integration Transmission Service Agreement with the City of North Little Rock, Arkansas.

Filed Date: 07/05/2007.

Accession Number: 20070709-0117.

Comment Date: 5 p.m. Eastern Time on Friday, July 20, 2007.

Docket Numbers: ER07-1134-000.

Applicants: Old Dominion Electric Cooperative, Inc.

Description: Old Dominion Electric Cooperative submits an application for approval of a cost-of-service rate formula to recover its revenue requirement for certain transmission facilities located in the Commonwealth of Virginia.

Filed Date: 07/05/2007.

Accession Number: 20070709-0116.

Comment Date: 5 p.m. Eastern Time on Thursday, July 26, 2007.

Docket Numbers: ER07-1135-000.

Applicants: Entergy Services, Inc.

Description: Entergy Services Inc. agent for the Entergy Operating Companies et al. submits a mutually executed Dynamic Transfer Operating Agreement with EIS, NLR, and Benton.

Filed Date: 07/06/2007.

Accession Number: 20070709-0141.

Comment Date: 5 p.m. Eastern Time on Friday, July 27, 2007.

Docket Numbers: ER07-1136-000.

Applicants: Camp Grove Wind Farm LLC.

Description: Camp Grove Wind Farm, LLC submits its proposed market-based rate tariff, entitled FERC Electric Tariff 1 for its wind powered electric generating facility located in Marshall and Stark Counties, IL.

Filed Date: 07/06/2007.

Accession Number: 20070709-0140.

Comment Date: 5 p.m. Eastern Time on Friday, July 27, 2007.

Docket Numbers: ER07-1137-000.

Applicants: Lockhart Power Company.

Description: Lockhart Power Company requests FERC's authorization to make wholesale sales of energy, capacity, and ancillary services at negotiated, market-based rates pursuant to Wholesale Market-Based Rate Tariff.

Filed Date: 07/06/2007.

Accession Number: 20070709-0139.

Comment Date: 5 p.m. Eastern Time on Friday, July 27, 2007.

Docket Numbers: ER07-1138-000.

Applicants: Jeffers Wind 20, LLC.

Description: Petition of Jeffers Wind 20, LLC for order accepting market-based rate tariff for filing and granting waivers and blanket approvals and request for expedited action.

Filed Date: 07/09/2007.

Accession Number: 20070711-0032.

Comment Date: 5 p.m. Eastern Time on Monday, July 30, 2007.

Docket Numbers: ER07-1139-000.

Applicants: York Haven Holdings, Inc.

Description: York Haven Holdings, Inc. submits a Petition for market-based rate authority under Section 205 of the Federal Power Act, and request for waivers and blanket approvals.

Filed Date: 07/09/2007.

Accession Number: 20070711-0031.

Comment Date: 5 p.m. Eastern Time on Monday, July 30, 2007.

Docket Numbers: ER07-1140-000.

Applicants: New York Independent System Operator, Inc.

Description: New York Independent System Operator, Inc., submits revised tariff sheets for its Market Administration and Control Area Services Tariff pursuant to Section 205 of the Federal Power Act.

Filed Date: 07/09/2007.

Accession Number: 20070711-0037.

Comment Date: 5 p.m. Eastern Time on Monday, July 30, 2007.

Take notice that the Commission received the following electric securities filings:

Docket Numbers: ES07-43-000: ES07-44-000; ES07-45-000.

Applicants: PSEG Fossil LLC; PSEG Nuclear LLC; PSEG Energy Resources & Trade LLC.

Description: PSEG Companies submit an application for continued authorization to have outstanding up to $2 billion of short-term unsecured debt.

Filed Date: 07/09/2007.

Accession Number: 20070710-0040.

Comment Date: 5 p.m. Eastern Time on Monday, July 30, 2007.

Take notice that the Commission received the following electric reliability filings:

Docket Numbers: RR07-11-001.

Applicants: North American Electric Reliability Corp.

Description: Compliance Filing of the North American Electric Reliability Corp., in Response to Paragraph 108 of Order Approving Regional Reliability Standards for the Western Interconnection and Directing Modifications.

Filed Date: 07/09/2007.

Accession Number: 20070709-5076.

Comment Date: 5 p.m. Eastern Time on Wednesday, August 8, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at: http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-13975 Filed 7-18-07; 8:45 am]

BILLING CODE 6717-01-P